DEPARTMENT OF THE INTERIOR

Fish and Wildlife Service

Notice of Availability of the Final Joint Restoration Plan and Environmental Assessment for the Lower Fox River and Green Bay Area and Finding of No Significant Impact (FONSI)

AGENCIES: Fish and Wildlife Service, Interior, lead; Bureau of Indian Affairs, Interior, cooperating agency; National Oceanic and Atmospheric Administration, Commerce, cooperating agency.

ACTION: Notice of Release of Finding of No Significant Impact (FONSI) and Final Restoration Plan and EA.

SUMMARY: This notice advises the public and other agencies of the availability of the Finding of No Significant Impact (FONSI) and the document titled “Joint Restoration Plan and Environmental Assessment for the Lower Fox River and Green Bay Area” (“The Plan”) upon which it is based. The Fish and Wildlife Service formally selected Alternative C of The Plan through signing of the FONSI. Alternative C provides for natural resource-based restoration within and beyond the Assessment Area.

ADDRESSES: Persons may obtain copies of the final document by writing, telephoning, faxing, or e-mailing: Colette S. Charbonneau, 2661 Scott Tower Drive, New Franken, Wisconsin 54229, Telephone: (920) 866-1726, Fax: (920) 866-1710, e-mail: colette_charbonneau@fws.gov. The document is also available at the following Internet address: http://midwest.fws.gov/nepa/.

Copies of the document will be available for onsite review at the Appleton Public Library, 225 N. Oneida St., Appleton, Wisconsin; Brown County Library, 515 Pine St., Green Bay, Wisconsin; Door County Library, 104 S. Fourth Ave., Sturgeon Bay, Wisconsin; Oneida Community Library, 201 Elm St., Oneida, Wisconsin; Oshkosh Public Library, 106 Washington Ave., Oshkosh, Wisconsin and the Escanaba Public Library, 400 Ludington Street, Escanaba, Michigan.

SUPPLEMENTARY INFORMATION: The objective of the Natural Resource Damage Assessment and Restoration process in the Lower Fox River and Green Bay area is to compensate the public, through environmental restoration, for losses to natural resources that have been caused by historic releases of polychlorinated biphenyls (PCBs) into the environment. The Comprehensive Environmental Response, Compensation and Liability Act (CERCLA, more commonly known as the federal “Superfund” law) [42 U.S.C. 9601, et seq.] and the Federal Water Pollution Control Act (CWA, commonly known as the Clean Water Act) [33 U.S.C. 1251, et seq.] authorize States, federally recognized Tribes, and certain federal agencies that have authority to manage or control natural resources, to act as “trustees” on behalf of the public, to restore, rehabilitate, replace, and/or acquire natural resources equivalent to those harmed by hazardous substance releases.

The U.S. Department of the Interior (represented by the U.S. Fish and Wildlife Service and the Bureau of Indian Affairs), U.S. Department of Commerce (represented by the National Oceanic and Atmospheric Administration), Oneida Tribe of Indians of Wisconsin, Menominee Indian Tribe of Wisconsin, Wisconsin Department of Natural Resources, Michigan Attorney General, and Michigan Department of Environmental Quality (“Trustees”) are trustees for natural resources considered in this Natural Resource Damage Assessment and Restoration (NRDAR) project, pursuant to subpart G of the National Oil and Hazardous Substances Pollution Contingency Plan (40 CFR 300.600 and 300.610) and Executive Order 12580.

The Trustees have a Memorandum of Agreement which establishes a Trustee Council to develop and implement a restoration plan for ecological restorations in the Fox River valley and Green Bay watershed. The Trustees followed the NRDAR regulations found at 43 CFR part 11 for the development of The Plan. The Plan addresses the Trustees' overall approach to restore, rehabilitate, replace or acquire the equivalent of natural resources injured by the release of PCBs into the Lower Fox River and Green Bay environment. Signing of the FONSI completed the National Environmental Policy Act (NEPA) process and allows the Plan to be implemented, as described in Alternative C.

The Trustees have worked together, in a cooperative process, to determine appropriate restoration activities to address natural resource injuries caused by historic releases of PCBs into the Lower Fox River and Green Bay environment. The results of this administrative process are contained in a series of planning and decision documents that have been published for public review under CERCLA and the CWA. Natural resource damages received, either through negotiated settlements or adjudicated awards, must be used to restore, rehabilitate, replace and/or acquire the equivalent of those natural resources that have been injured. The Plan addresses the Trustees' overall approach to restore, rehabilitate, replace or acquire the equivalent of natural resources injured by the release of PCBs into the Lower Fox River and Green Bay environment.

On September 19, 2002, the Service published in the Federal Register (67 FR 59073) a Notice of Availability commencing a 30-day public comment period on the draft document entitled, “Joint Restoration Plan and Environmental Assessment for the Lower Fox River and Green Bay Area”. Comments received during the above public comment period were incorporated into a final document (The Plan). This current Notice of Availability informs the public that the Service has formally selected Alternative C of the The Plan through the signing of a Finding of No Significant Impact (FONSI).

Authority: 42 U.S.C. 4321-4347.

Dated: June 24, 2003.
T.J. Miller,
Acting Assistant Regional Director, Ecological Services, Region 3, Fort Snelling, MN.

[FR Doc. 03-18798 Filed 7-23-03; 8:45 am]

BILLING CODE 4310-55-P